DEPARTMENT OF THE INTERIOR

Bureau of Land Management

[WO-260-09-1060-00-24 1A]

Call for Nomination To Fill the Position of Public Interest for the Wild Horse and Burro Advisory Board

AGENCY: Bureau of Land Management, Interior.

ACTION: Notice of Wild Horse and Burro Advisory Board Call for a Nomination to fill the position of Public Interest.

SUMMARY: The purpose of this notice is to solicit public nominations for the position representing the Public Interest (previously listed as Public at Large) on the Wild Horse and Burro Advisory Board. The Board provides advice concerning management, protection, and control of wild free-roaming horses and burros on the public lands administered by the Department of the Interior, through the Bureau of Land Management, and the Department of Agriculture, through the Forest Service.

DATES: Nominations should be submitted to the address listed below no later than March 31, 2006.

ADDRESSES: National Wild Horse and Burro Program, Bureau of Land Management, Department of the Interior, P.O. Box 12000, Reno, Nevada 89520-0006, Attn: Ramona Delorme; FAX 775-861-6618.

FOR FURTHER INFORMATION CONTACT: Mr. Jeff Rawson, Group Manager, Wild Horse and Burro Group, (202) 452-0379. Individuals who use a telecommunications device for the deaf (TDD) may contact Mr. Rawson at any time by calling the Federal Information Relay Service at 1-800-877-8339.

SUPPLEMENTARY INFORMATION: Nominations will be for the remainder of the vacated term representing the Public Interest category. The term of this position will be from the date of appointment until the expiration date of July 8, 2008.

Any individual or organization may nominate one or more persons to serve on the Wild Horse and Burro Advisory Board. Individuals may also nominate themselves for Board membership. All nomination letters/or resumes should include the nominees: (1) Name, address, phone, and e-mail address if applicable; (2) present occupation; (3) explanation of qualifications to represent the public interest (4) nominating organization, individual or by self; and (5) list of endorsements by qualified individuals and/or letters of endorsement.

As appropriate, certain Board members may be appointed as Special Government Employees. Special Government Employees serve on the board without compensation, and are subject to financial disclosure requirements in the Ethics in Government Act and 5 CFR 2634. Nominations are to be sent to the address listed under ADDRESSES, above.

Each nominee will be considered for selection according to their ability to represent their designated constituency, analyze and interpret data and information, evaluate programs, identify problems, work collaboratively in seeking solutions and formulate and recommend corrective actions. Pursuant to Section 7 of the Wild Free-Roaming Horses and Burros Act, members of the Board cannot be employed by either Federal or State Government. Members will serve without salary, but will be reimbursed for travel and per diem expenses at current rates for Government employees. The Board will meet no less than two times annually. The Director, Bureau of Land Management may call additional meetings in connection with special needs for advice.

Dated: January 25, 2006.
Ed Shepard,
Assistant Director, Renewable Resources and Planning.

[FR Doc. E6-2391 Filed 2-17-06; 8:45 am]

BILLING CODE 4310-84-P